DEPARTMENT OF TRANSPORTATION

Federal Aviation Administration

14 CFR Part 39

[Docket No. FAA-2005-21470; Directorate Identifier 2003-NM-45-AD]

RIN 2120-AA64

Airworthiness Directives; McDonnell Douglas Model DC-10-10, DC-10-10F, DC-10-15, DC-10-30 and DC-10-30F (KC-10A and KDC-10) Airplanes; Model DC-10-40 and DC-10-40F Airplanes; and Model MD-11 and MD-11F Airplanes

AGENCY: Federal Aviation Administration (FAA), Department of Transportation (DOT).

ACTION: Notice of proposed rulemaking (NPRM).

SUMMARY: The FAA proposes to adopt a new airworthiness directive (AD) for certain McDonnell Douglas Model DC-10-10, DC-10-10F, DC-10-15, DC-10-30 and DC-10-30F (KC-10A and KDC-10) airplanes; Model DC-10-40 and DC-10-40F airplanes; and Model MD-11 and MD-11F airplanes. This proposed AD would require for certain airplanes, modifying the thrust reverser command wiring of the number 2 engine. For certain other airplanes, this proposed AD would require modifying the thrust reverser system wiring from the flight compartment to engines 1, 2, and 3 thrust reversers. This proposed AD would also require installing thrust reverser locking systems on certain airplanes. This proposed AD is prompted by a determination that the thrust reverser systems on these McDonnell Douglas airplanes do not adequately preclude unwanted deployment of a thrust reverser. We are proposing this AD to prevent an unwanted deployment of a thrust reverser during flight, which could result in reduced controllability of the airplane.

DATES: We must receive comments on this proposed AD by August 15, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street, SW., room PL-401, on the plaza level of the Nassif Building, Washington, DC. This docket number is FAA-2005-21470; the directorate identifier for this docket is 2003-NM-45-AD.

FOR FURTHER INFORMATION CONTACT: Philip C. Kush, Aerospace Engineer, Propulsion Branch, ANM-140L, FAA, Los Angeles Aircraft Certification Office, 3960 Paramount Boulevard, Lakewood, California 90712-4137; telephone (562) 627-5263; fax (562) 627-5210.

SUPPLEMENTARY INFORMATION:

Comments Invited

We invite you to submit any relevant written data, views, or arguments regarding this proposed AD. Send your comments to an address listed under ADDRESSES. Include “Docket No. FAA-2005-21470; Directorate Identifier 2003-NM-45-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

In 1992, the FAA issued a document titled “Criteria for Assessing Transport Turbojet Fleet Thrust Reverser Safety.” This document is based upon the premise that no failure of thrust reverser components anticipated to occur in-service should prevent continued safe flight and landing of an airplane. In order to comply with the criteria in the document, Boeing has developed a modification that increases the level of safety of the thrust reverser system by incorporating wire modifications on McDonnell Douglas Model DC-10-10, DC-10-10F, DC-10-15, DC-10-30 and DC-10-30F (KC-10A and KDC-10) airplanes; Model DC-10-40 and DC-10-40F airplanes; and Model MD-11 and MD-11F airplanes; and by installing thrust reverser interlocks on Model DC-10-40 and DC-10-40F airplanes. Based upon the Boeing safety evaluations, we have determined that the existing thrust reverser systems on these McDonnell Douglas airplanes do not adequately preclude unwanted deployment of a thrust reverser. Such unwanted deployment of a thrust reverser during flight could result in reduced controllability of the airplane.

This is the third in a series of planned rulemaking actions that will encompass the entire fleet of McDonnell Douglas Model DC-10-10, DC-10-10F, DC-10-15, DC-10-30 and DC-10-30F (KC-10A and KDC-10) airplanes; Model DC-10-40 and DC-10-40F airplanes; and Model MD-11 and MD-11F airplanes. This rulemaking action would be the final planned action and would complete the FAA's review of these models based on the 1992 “Criteria for Assessing Transport Turbojet Fleet Thrust Reverser Safety” for McDonnell Douglas Model DC-10-10, DC-10-10F, DC-10-15, DC-10-30 and DC-10-30F (KC-10A and KDC-10) airplanes; Model DC-10-40 and DC-10-40F airplanes; and Model MD-11 and MD-11F airplanes.

Other Related Rulemaking

We have previously issued AD 2001-05-10, amendment 39-12147 (66 FR 15785, March 21, 2001), applicable to all McDonnell Douglas Model DC-10 and MD-11 series airplanes, and KC-10A (military) airplanes. That AD requires installation of thrust reverser interlocks on certain airplanes, inspections of the thrust reverser systems to detect discrepancies on certain other airplanes, and corrective actions, if necessary. The actions required by paragraphs (c) and (i) of AD 2001-05-10 are done in accordance with McDonnell Douglas Alert Service Bulletin DC10-78A057, Revision 01, dated February 18, 1999.

We have also previously issued AD 2001-17-19, amendment 39-12410 (66 FR 44950, August 27, 2001), applicable to all McDonnell Douglas Model DC-10 series airplanes, and KC-10A and KDC-10 (military) airplanes. That AD requires certain modifications of the thrust reverser control and indication system and wiring on each engine. The actions required by paragraph (a) of AD 2001-17-19 are done in accordance with McDonnell Douglas Service Bulletin DC10-78-060, dated December 17, 1999.

Relevant Service Information

We have reviewed Boeing Service Bulletin DC10-78-066, Revision 01, dated November 30, 2001 (for Model DC-10-10, DC-10-10F, DC-10-15, DC-10-30 and DC-10-30F (KC-10A and KDC-10) airplanes); and Boeing Service Bulletin DC10-78-067, dated October 30, 2002 (for Model DC-10-40 and DC-10-40F airplanes). These service bulletins describe procedures for modifying the thrust reverser command wiring of the number 2 engine, located in the aft fuselage/pylon area, to provide wire separation. The modification includes installing new tubes, revising the wiring, and routing the wiring as specified in the service bulletins.

Boeing Service Bulletin DC10-78-067 also specifies prior or concurrent accomplishment of the following service bulletins:

Concurrent Service Bulletins for Boeing Service Bulletin DC10-78-067
McDonnell Douglas | Revision level | Date | Action
Alert Service Bulletin DC10-78A057 (cited as a source of service information for AD 2001-05-10) | 01 | February 18, 1999 | Repetitive detailed visual inspections, functional checks, and torque checks of the thrust reverser systems and applicable corrective actions.
Service Bulletin DC10-78-060 (cited as a source of service information for AD 2001-17-19) | Original | December 17, 1999 | Modification of the indication light system for the thrust reversers.
Service Bulletin DC10-78-064 | Original | June 24, 2003 | Installation of an additional thrust reverser locking system at each wing position.

We have also reviewed Boeing Service Bulletin MD11-78-007, Revision 02, dated August 22, 2001 (for Model MD-11 and -11F airplanes). This service bulletin describes procedures for modifying the thrust reverser system wiring from the flight compartment to engines 1, 2, and 3 thrust reversers. The modification includes revising and routing the wiring; and verifying the proper configuration code and revising the wiring if required; as applicable. The modification also includes a test of the thrust reverser system.

Boeing Service Bulletin MD11-78-007 also specifies prior or concurrent accomplishment of the following service bulletins:

Concurrent Service Bulletins for Boeing Service Bulletin MD11-78-007
Service bulletin | Revision level | Date | Action
McDonnell Douglas Service Bulletin MD11-31-091 | Original | November 5, 1998 | Update program software of display electronic units.
Rohr Service Bulletin MD-11 54-200 | 1 | May 14, 2001 | Modify wing pylon harnesses.
Rohr Service Bulletin MD-11 54-201 | Original | November 30, 1999 | Modify pylon thrust reverser harnesses and J-box.

Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Differences Between the Proposed AD and Service Information.”

Although AD 2001-05-10 and AD 2001-17-19 already provide certain thrust reverser safety enhancements, this proposed AD is necessary to ensure that failure of a thrust reverser component would not prevent safe flight and landing.

Differences Between the Proposed AD and Service Information

Boeing Service Bulletin DC10-78-067, dated October 30, 2002, specifies that McDonnell Douglas Service Bulletin DC10-78-064, June 24, 2003, be done prior to or concurrently with Boeing Service Bulletin DC10-78-067. We have determined that the installation of the thrust reverser locking systems specified in McDonnell Douglas Service Bulletin DC10-78-064 may be done after accomplishing the actions specified Boeing Service Bulletin DC10-78-067 as long as the actions in both service bulletins are done within 60 months. We have coordinated this difference with the airplane manufacturer.

Costs of Compliance

There are about 612 airplanes of the affected designs in the worldwide fleet. This proposed AD would affect about 245 airplanes of U.S. registry. The following tables provide the estimated costs for U.S. operators to comply with this proposed AD, for the applicable actions, at an average hourly labor rate of $65.

Cost for Wiring Modification/Thrust Reverser Locking System Installation
Action | Work hours | Parts | Cost per airplane | Number of U.S.- registered airplanes | Fleet cost
Modify wiring (Model DC-10-10, DC-10-10F, DC-10-15, DC-10-30 and DC-10-30F (KC-10A and KDC-10) airplanes) | 34 | $1,562 | $3,772 | 40 | $150,880
Modify wiring (Model DC-10-40 and DC-10-40F airplanes) | 34 | 5,238 | 7,448 | 45 | 335,160
Modify wiring (Model MD-11 and -11F airplanes) | 124-192 | 11,912-17,672 | 19,972-30,152 | 160 | 3,195,520-4,824,320
Install thrust reverser locking system (Model DC-10-40 and DC-10-40F airplanes) | 218 | 165,535-207,792 | 179,705-221,962 | 45 | 8,086,725-9,988,290

Cost of Concurrent Actions for Model MD-11 and MD-11F Airplanes
Action | Work hours | Hourly labor rate | Parts | Cost per airplane
Update program software, as applicable | 2 | $65 | (¹) | $130
Modify wing pylon harnesses, as applicable | 100 | 65 | 5,268 | 11,768
Modify pylon thrust reverser harnesses and J-box, as applicable | 52 | 65 | 4,397 | 7,777
¹ None.

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2005-21470; Directorate Identifier 2003-NM-45-AD.

Comments Due Date

(a) The Federal Aviation Administration (FAA) must receive comments on this AD action by August 15, 2005.

Affected ADs

(b) None.

Applicability

(c) This AD applies to airplanes, certificated in any category, as listed in Table 1 of this AD.

Table 1.—Applicability
McDonnell Douglas airplane— | As identified in—
(1) Model DC-10-10, DC-10-10F, DC-10-15, DC-10-30 and DC-10-30F (KC-10A and KDC-10) airplanes | Boeing Service Bulletin DC10-78-066, Revision 01, dated November 30, 2001.
(2) Model DC-10-40 and DC-10-40F airplanes | Boeing Service Bulletin DC10-78-067, dated October 30, 2002.
(3) Model MD-11 and MD-11F airplanes | Boeing Service Bulletin MD11-78-007, Revision 02, dated August 22, 2001.

Unsafe Condition

(d) This AD was prompted by a determination that the thrust reverser systems on these McDonnell Douglas airplanes do not adequately preclude unwanted deployment of a thrust reverser. We are issuing this AD to prevent an unwanted deployment of a thrust reverser during flight, which could result in reduced controllability of the airplane.

Compliance

(e) You are responsible for having the actions required by this AD performed within the compliance times specified, unless the actions have already been done.

Wiring Modification

(f) For Model DC-10-10, DC-10-10F, DC-10-15, DC-10-30, and DC-10-30F (KC-10A and KDC-10) airplanes: Within 60 months after the effective date of this AD, modify the thrust reverser command wiring of the number 2 engine by doing all the actions specified in the Accomplishment Instructions of Boeing Service Bulletin DC10-78-066, Revision 01, dated November 30, 2001.

(g) For Model MD-11 and MD-11F airplanes: Within 60 months after the effective date of this AD, modify the thrust reverser system wiring from the flight compartment to engines 1, 2, and 3 thrust reversers by doing all the actions specified in the Accomplishment Instructions of Boeing Service Bulletin MD11-78-007, Revision 02, dated August 22, 2001.

Wiring Modification/Installation of Thrust Reverser Locking System

(h) For Model DC-10-40 and DC-10-40F airplanes: Within 60 months after the effective date of this AD, modify the thrust reverser command wiring of the number 2 engine by doing all the actions specified in the Accomplishment Instructions of Boeing Service Bulletin DC10-78-067, dated October 30, 2002, and install thrust reverser locking systems by doing all the applicable actions specified in the Accomplishment Instructions of McDonnell Douglas Service Bulletin DC10-78-064, dated June 24, 2003.

Prior or Concurrent Actions

(i) For Model DC-10-10, DC-10-10F, DC-10-15, DC-10-30, and DC-10-30F (KC-10A and KDC-10) airplanes: Prior to or concurrent with the actions required by paragraph (f) of this AD, do the actions specified in Table 2 of this AD.

Table 2.—Prior or Concurrent Actions for Model DC-10-10, DC-10-10F, DC-10-15, DC-10-30, and DC-10-30F (KC-10A and KDC-10), Airplanes
Do these actions— | Required by— | In accordance with—
Repetitive detailed visual inspections, functional checks, and torque checks of the thrust reverser systems, and applicable corrective actions | Paragraphs (c) and (i) of AD 2001-05-10, amendment Bulletin 39-12147 | McDonnell Douglas Alert Service Bulletin DC10-78A057, Revision 01, dated February 18, 1999.
Modification of the indication light system for the thrust reversers | Paragraph (a) of AD 2001-17-19, amendment 39-12410 | McDonnell Douglas Service Bulletin DC10-78-060, dated December 17, 1999.

(j) For Model MD-11 and MD-11F airplanes: Prior to or concurrent with the actions required by paragraph (g) of this AD, do the actions specified in Table 3 of this AD.

Table 3.—Prior or Concurrent Actions for Model MD-11 and MD-11F Airplanes
Do these actions— | In accordance with—
Update program software of display electronic units | McDonnell Douglas Service Bulletin MD11-31-091, dated November 5, 1998.
Modify wing pylon harnesses | Rohr Service Bulletin MD-11-54-200, Revision 1, dated May 14, 2001.
Modify pylon thrust reverser harnesses and J-box | Rohr Service Bulletin MD-11-54-201, dated November 30, 1999.

Actions Accomplished According to Previous Issues of Service Bulletins

(k) Actions accomplished before the effective date of this AD according to Boeing Service Bulletin DC10-78-066, dated March 6, 2001; or Boeing Service Bulletin MD11-78-007, dated January 31, 2000; or Revision 01, dated June 6, 2001; are considered acceptable for compliance with the applicable corresponding actions specified in this AD.

Alternative Methods of Compliance (AMOCs)

(l) The Manager, Los Angeles Aircraft Certification Office (ACO), FAA, has the authority to approve AMOCs for this AD, if requested in accordance with the procedures found in 14 CFR 39.19.

Issued in Renton, Washington, on June 3, 2005.
Ali Bahrami,
Manager, Transport Airplane Directorate, Aircraft Certification Service.

[FR Doc. 05-11879 Filed 6-15-05; 8:45 am]

BILLING CODE 4910-13-P